SUSQUEHANNA RIVER BASIN COMMISSION

Notice of Public Hearing and Commission Meeting

AGENCY: Susquehanna River Basin Commission.

ACTION: Notice of Public Hearing and Commission Meeting.

SUMMARY: The Susquehanna River Basin Commission will hold a public hearing as part of its regular business meeting beginning at 8:30 a.m. on June 12, 2008 in Elmira, New York. At the public hearing, the Commission will consider: (1) Approval of certain water resources projects, including one enforcement action, (2) consideration of a request to reopen Docket No. 20020819, Mountainview Thoroughbred Racing Association., Inc., and (3) a request for a hearing on an administrative appeal regarding Docket No. 20080305, Mountainview Thoroughbred Racing Association, Inc. Details concerning the matters to be addressed at the public hearing and business meeting are contained in the SUPPLEMENTARY INFORMATION section of this notice.

DATES: June 12, 2008.

ADDRESSES: Holiday Inn Elmira—Riverview, 760 E. Water Street, Elmira, New York. See SUPPLEMENTARY INFORMATION section for mailing and electronic mailing addresses for submission of written comments.

FOR FURTHER INFORMATION CONTACT: Richard A. Cairo, General Counsel, telephone: (717) 238-0423; ext. 306; fax: (717) 238-2436; e-mail: rcairo@srbc.net or Deborah J. Dickey, Secretary to the Commission, telephone: (717) 238-0423, ext. 301; fax: (717) 238-2436; e-mail: ddickey@srbc.net.

SUPPLEMENTARY INFORMATION: In addition to the public hearing and its related action items identified below, the business meeting also includes the following items on the agenda: (1) A special infrastructure presentation by Ms. Sandra Allen of the N.Y. Department of Environmental Conservation, (2) a report on the present hydrologic conditions of the basin, (3) approval of a proposal to increase the Commission's consumptive use mitigation fee, (4) a recommendation to rescind certain Commission policies, (5) approval of an FY-10 Budget, (6) approval of various grants and contracts, and (7) election of a new Chairman and Vice-Chairman to serve in the next fiscal year. The Commission will also hear a Legal Counsel's report and an update on recent activities in our regulatory program.

Public Hearing—Projects Scheduled for Action

1. Project Sponsor and Facility: Fortuna Energy Inc. (Catatonk Creek), Town of Spencer, Tioga County, N.Y. Applications for consumptive water use of up to 0.250 mgd and surface water withdrawal of up to 0.250 mgd.

2. Project Sponsor and Facility: East Resources, Inc. (Chemung River), Town of Big Flats, Chemung County, N.Y. Applications for consumptive water use of up to 0.250 mgd and surface water withdrawal of up to 0.250 mgd.

3. Project Sponsor and Facility: Fortuna Energy Inc. (Chemung River), Chemung Town, Chemung County, N.Y. Applications for consumptive water use of up to 0.250 mgd and surface water withdrawal of up to 0.250 mgd.

4. Project Sponsor and Facility: East Resources, Inc. (Seeley Creek), Town of Southport, Chemung County, N.Y. Applications for consumptive water use of up to 0.250 mgd and surface water withdrawal of up to 0.250 mgd.

5. Project Sponsor and Facility: East Resources, Inc. (Tioga River; at Tioga Junction), Lawrence Township, Tioga County, Pa. Applications for consumptive water use of up to 0.250 mgd and surface water withdrawal of up to 0.250 mgd.

6. Project Sponsor and Facility: East Resources, Inc. (Crooked Creek; near Middlebury Center), Middlebury Township, Tioga County, Pa. Applications for consumptive water use of up to 0.250 mgd and surface water withdrawal of up to 0.250 mgd.

7. Project Sponsor and Facility: Fortuna Energy Inc. (Susquehanna River), Sheshequin Township, Bradford County, Pa. Applications for consumptive water use of up to 0.250 mgd and surface water withdrawal of up to 0.250 mgd.

8. Project Sponsor and Facility: East Resources, Inc. (Tioga River; near Mansfield), Richmond Township, Tioga County, Pa. Applications for consumptive water use of up to 0.250 mgd and surface water withdrawal of up to 0.250 mgd.

9. Project Sponsor and Facility: Fortuna Energy Inc. (Sugar Creek), West Burlington Township, Bradford County, Pa. Applications for consumptive water use of up to 0.250 mgd and surface water withdrawal of up to 0.250 mgd.

10. Project Sponsor and Facility: Fortuna Energy Inc. (Towanda Creek), Franklin Township, Bradford County, Pa. Applications for consumptive water use of up to 0.250 mgd and surface water withdrawal of up to 0.250 mgd.

11. Project Sponsor and Facility: Neptune Industries, Inc. (Lackawanna River), Borough of Archbald, Lackawanna County, Pa. Application for surface water withdrawal of up to 0.499 mgd.

12. Project Sponsor and Facility: Keystone Landfill, Inc., Dunmore Borough, Lackawanna County, Pa. Applications for consumptive water use of up to 0.100 mgd and groundwater withdrawal of 0.020 mgd from Well 1, 0.010 mgd from Well 2, and 0.020 mgd from Well 3, and settlement of an outstanding compliance matter.

13. Project Sponsor: United States Gypsum Company. Project Facility: Washingtonville Plant (Well W-A8), Derry Township, Montour County, Pa. Application for groundwater withdrawal of 0.350 mgd.

14. Project Sponsor: Kratzer Run Development, LLC. Project Facility: Eagles Ridge Golf Club (formerly Grandview Golf Course/Susquehanna Recreation Corporation), Ferguson Township, Clearfield County, Pa. Applications for consumptive water use of up to 0.099 mgd and surface water withdrawal of up to 0.099 mgd.

15. Project Sponsor and Facility: Commonwealth Environmental Systems, L.P., Foster, Frailey and Reily Townships, Schuylkill County, Pa. Modification of consumptive water use and groundwater approval (Docket No. 20070304).

16. Project Sponsor and Facility: Lykens Valley Golf Course (formerly Harrisburg North Golf Course), Upper Paxton Township, Dauphin County, Pa. Applications for consumptive water use of up to 0.200 mgd and surface water withdrawal of up to 0.200 mgd.

17. Project Sponsor and Facility: Spring Creek Golf Course (Spring Creek), Derry Township, Dauphin County, Pa. Applications for consumptive water use of up to 0.081 mgd and surface water withdrawal of up to 0.081 mgd.

18. Project Sponsor: Pennsy Supply, Inc. Project Facility: Hummelstown Quarry, South Hanover Township, Dauphin County, Pa. Application for surface water withdrawal of up to 29.925 mgd.

19. Project Sponsor: Titanium Hearth Technologies, Inc. Project Facility: TIMET North American Operations, Caernarvon Township, Berks County, Pa. Application for consumptive water use of up to 0.133 mgd, and settlement of an outstanding compliance matter.

20. Project Sponsor and Facility: Conestoga Country Club (Well 1), Manor and Lancaster Townships, Lancaster County, Pa. Application for groundwater withdrawal of 0.281 mgd.

21. Project Sponsor and Facility: Rock Springs Generation Facility, Rising Sun, Cecil County, Maryland. Modification of surface water withdrawal, groundwater withdrawal, and consumptive water use approval (Docket No. 20001203).

Public Hearing—Project Scheduled for Enforcement Action

1. Project Sponsor and Facility: Standing Stone Golf Club (Docket No. 20020612), Oneida Township, Huntington County, Pa.

Public Hearing—Petition To Reopen Docket

1. Petition of East Hanover Township, et al., Dauphin County, Pa., to reopen Docket No. 20020819, Mountainview Thoroughbred Racing Association, Inc.

Public Hearing—Request for Hearing on Administrative Appeal

1. Request of East Hanover Township, et al., Dauphin Co., Pa., for hearing on administrative appeal of Docket No. 20080305, Mountainview Thoroughbred Racing Association, Inc.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Deborah J. Dickey, Secretary to the Commission, e-mail: ddickey@srbc.net. Comments mailed or electronically submitted must be received prior to June 12, 2008 to be considered.

Authority: Pub. L. 91-575, 84 Stat. 1509 et seq., 18 CFR parts 806, 807, and 808.

Dated: May 19, 2008.
Thomas W. Beauduy,
Deputy Director.

[FR Doc. E8-12057 Filed 5-29-08; 8:45 am]

BILLING CODE 7040-01-P